DEPARTMENT OF COMMERCE

International Trade Administration

[C-580-851]

Dynamic Random Access Memory Semiconductors From the Republic of Korea: Extension of Time Limit for Preliminary Results of the Countervailing Duty Administrative Review

AGENCY: Import Administration, International Trade Administration, Department of Commerce.

DATES:Effective Date: March 25, 2005.

FOR FURTHER INFORMATION CONTACT; Yasmin Bordas at (202) 482-3813; AD/CVD Operations, Office 1; Import Administration, U.S. Department of Commerce, 14th Street and Constitution Avenue, NW., Washington, DC 20230.

Background

On September 22, 2004, the Department published a notice of initiation of administrative review of the countervailing duty order on dynamic random access memory semiconductors from the Republic of Korea, covering the period April 7, 2003, through December 31, 204. See Initiation of Antidumping and Countervailing Duty Administrative Reviews and Request for Revocation in Part, (69 FR 56745). On September 27, 2004, the petitioners alleged new subsidies. On November 30, 2004, the Department initiated an investigation of the alleged new subsidies. The preliminary results for this review are currently due no later than May 3, 2005.

Extension of Time Limits for Preliminary Results

Section 751(a)(3)(A) of the Tariff Act of 1930, as amended (“the Act”), requires the Department of Commerce (“Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

We are currently analyzing information provided by the respondent in this review. This administrative review is extraordinarily complicated due to the complexity of the countervailable subsidy practices found in the investigation and the new subsidy allegations. Because the Department requires additional time to review, analyze, and possibly verify the information, and to issue supplemental questionnaires, if necessary, it is not practicable to complete this review within the originally anticipated time limit (i.e., by May 3, 2004). Therefore, the Department is extending the time limit for completion of the preliminary results to not later than August 31, 2005, in accordance with section 751(a)(3)(A) of the Act.

We are issuing and publishing this notice in accordance with sections 751(a)(1) and 777(i)(1) of the Act.

Dated: March 21, 2005.
Barbara E. Tillman,
Acting Deputy Assistant Secretary for Import Administration.

[FR Doc. 05-5956 Filed 3-24-05; 8:45 am]

BILLING CODE 3510-D5-M